DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form Numbers, and OMB Number: Telecommunications Service Priority System; SF Form(s) 314, 315, 317, 318, and 319; OMB Number 0704-0305.

Type of Request: Extension.

Number of Respondents: 94.

Responses per Respondent: 42 (average).

Annual Responses: 3,940.

Average Burden per Response: 1.2 hours.

Annual Burden Hours: 4,815.

Needs and Uses: The Telecommunications Service Priority (TSP) System forms are used to determine participation in the TSP system, facilitate TSP system administrative requirements, and to maintain TSP system database accuracy. The purpose of the TSP system is to provide a legal basis for telecommunications vendors to provide priority provisioning and restoration of telecommunications services supporting national security or emergency preparedness functions. The information gathered via the TSP system forms is the minimum necessary for the National Communications System to effectively manage the TSP system.

Affected Public: Businesses or Other For-Profit; State, Local, or Tribal Government.

Frequency: On Occasion.

Respondents Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: August 2, 2000.
Patricia L. Toppings,
Alternate OSD Federal Register Liaison Officer, Department of Defense.

[FR Doc. 00-20189 Filed 8-9-00; 8:45 am]

BILLING CODE 5001-10-M